DEPARTMENT OF THE INTERIOR

Fish and Wildlife Service

Availability of a Draft Environmental Assessment and Preliminary Finding of No Significant Impact, and Receipt of an Application for an Incidental Take Permit for a Proposed Commercial Development Called Bella Vista Retail Center Located in Highlands County, Florida

AGENCY: Fish and Wildlife Service, Interior.

ACTION: Notice.

The 81 + 3 Florida, Inc. company (Applicant) requests an incidental take permit (ITP) pursuant to section 10(a)(1)(B) of the Endangered Species Act of 1973 (U.S.C. 1531 et seq.), as amended (Act). The Applicant anticipates taking 20.7 acres of sand skink (Neoseps reynoldsi) and bluetail mole skink (Eumeces egregius lividus) habitat, incidental to the development of a commercial retail center in section 23, Township 34 South, Range 28 East, Sebring, Highlands County, Florida. The Applicant proposes to mitigate the taking of skinks through fee title acquisition of at least 41.4 acres of suitable skink habitat within the range of the species.

Land clearing, infrastructure installation and commercial construction will destroy 20.7 acres of habitat known to be occupied by sand and bluetail mole skinks. A more detailed description of the mitigation and minimization measures to address the effects of the Project to the protected species are outlined in the Applicant's Habitat Conservation Plan (HCP), the Service's draft Environmental Assessment (EA), and in the SUPPLEMENTARY INFORMATION section below.

The Service also announces the availability of a draft EA and HCP for the incidental take application. Copies of the draft EA and/or HCP may be obtained by making a request to the Regional Office (see ADDRESSES). Requests must be in writing to be processed. This notice also advises the public that the Service has made a preliminary determination that issuing the ITP is not a major Federal action significantly affecting the quality of the human environment within the meaning of Section 102(2)(C) of the National Environmental Policy Act of 1969, as amended (NEPA). The preliminary Finding of No Significant Impact (FONSI) is based on information contained in the draft EA and HCP. The final determination will be made no sooner than 30 days from the date of this notice. This notice is provided pursuant to Section 10 of the Act and NEPA regulations (40 CFR 1506.6).

The Service specifically requests information, views, and opinions from the public via this Notice on the federal action, including the identification of any other aspects of the human environment not already identified in the Service's draft EA. Further, the Service is specifically soliciting information regarding the adequacy of the HCP as measured against the Service's ITP issuance criteria found in 50 CFR Parts 13 and 17.

If you wish to comment, you may submit comments by any one of several methods. Please reference permit number TE026107-0 in such comments, or in requests of the documents discussed herein. You may mail comments to the Service's Regional Office (see ADDRESSES). You may also comment via the internet to “david_dell@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not; however, consider anonymous comments. We will make all submissions from organizations or businesses, and from individuals identifying themselves as representatives or officials of organizations or businesses, available for public inspection in their entirety.

DATES: Written comments on the ITP application, draft EA, and HCP should be sent to the Service's Regional Office (see ADDRESSES) and should be received on or before July 19, 2000.

ADDRESSES: Persons wishing to review the application, HCP, and draft EA may obtain a copy by writing the Service's Southeast Regional Office, Atlanta, Georgia. Documents will also be available for public inspection by appointment during normal business hours at the Regional Office, 1875 Century Boulevard, Suite 200, Atlanta, Georgia 30345 (Attn: Endangered Species Permits), or Field Supervisor, U.S. Fish and Wildlife Service, Post Office Box 2676, Vero Beach, Florida 32961-2676.

FOR FURTHER INFORMATION CONTACT: Mr. David Dell, Regional HCP Coordinator, (see ADDRESSES above), telephone: 404/679-7313, facsimile: 404/679-7081; or Mr. Mike Jennings, Fish and Wildlife Biologist, South Florida Ecosystem Office, Vero Beach, Florida (see ADDRESSES above), telephone: 561/562-3909.

SUPPLEMENTARY INFORMATION: Sand skinks and bluetail mole skinks are restricted to dry, sandy uplands (xeric communities) in southcentral peninsular Florida. These areas are predominated by deep, well drained soils, and drought tolerant plant species. Sand and bluetail mole skinks are found primarily in sandy areas within xeric uplands. Sand skinks are mostly found on the soil surface or under leaf litter. Bluetail mole skinks are fossorial and remain underground throughout their life.

Due to its high elevation and tendency to remain dry, historic skink habitat was favored by early settlers and subsequently attracted urban and agricultural development. Human settlement has resulted in an estimated 85 percent loss of xeric communities, which has likely adversely affected the distribution and numbers of sand and bluetail mole skinks.

Quantification of historic or current population size and distribution of skinks is difficult because these species are difficult to survey; they are small and hard to locate due to their semi-(sand skink) to completely fossorial (bluetail mole skink) habits. Although widespread, definitive surveys are usually not practicable for these species, existing soils data can provide insight into the distribution of suitable habitat and the subsequent loss of such habitat to anthropogenic causes.

Much of the historic skink habitat occurred along a 100-mile stretch of parallel ancient dunes that were situated on a north-south axis from Orange to Highlands counties. This area is exposed to frequent lightning strikes which resulted in the evolution of plant and animal species that became dependant on frequent fires to persist. Due to the effects of urbanization and agricultural development, historic skink habitat has been reduced in size and has become fragmented. As a consequence of habitat fragmentation, much of the remaining habitat for skinks is poor quality due to the lack of periodic fires brought on by post-settlement fire exclusion.

Sand skinks and bluetail mole skinks are currently known from 115 and 36 locations, respectively, including the Project site. Issuance of the Permit to the Applicant would result in a loss of 0.9 percent (1/115) of the known localities of sand skinks and 2.8 percent (1/36) of known localities of bluetail mole skinks. These figures probably overestimate the percentage loss since not all potentially suitable habitat throughout the range of these species has been surveyed. The effects that loss of sand skinks and habitat within the Project site will have on the local population of skinks is not known.

Construction of the Project's infrastructure and facilities will result in death of, or injury to, sand skinks and bluetail mole skinks, incidental to the carrying out of these otherwise lawful activities. Habitat alteration associated with the proposed commercial development will reduce the availability of feeding, nesting, and sheltering habitat for these species.

The draft EA considers the environmental consequences of two action alternatives, both of which would require issuance of an ITP. The preferred alternative would affect about 20.7 acres suitable sand and bluetail mole skink habitat. The reduced take alternative would affect about 15 acres of suitable sand and bluetail mole skink habitat. The no action alternative (not issue the ITP) may result in loss of habitat for federally listed species described above and exposure of the Applicant under Section 9 of the Act. The proposed action alternative is issuance of the ITP according to the HCP as submitted and described above. Under the proposed alternative, two mitigation alternatives exists, both of which will result in the acquisition, protection, and management suitable skink habitat off-site. Habitat acquisition and management will be achieved through one of two mitigation alternatives; fee-simple purchase of a minimum of 41.7 acres of suitable skink habitat or deposit of sufficient funds into an escrow account to acquire and manage a minimum of 41.7 acres of suitable skink habitat. Under the first mitigation alternative, the Permittee would purchase habitat adjacent to Archbold Biological Station (ABS) (a non-profit conservation and research facility in southern Highlands County) and subsequently transfer title of such lands to ABS. ABS would assume responsibility for perpetual management of the acquired habitat. Under the second mitigation alternative, the Permittee would escrow sufficient funds to acquire and manage a minimum of 41.7 acres of suitable skink habitat adjacent to ABS. The Nature Conservancy (TNC) would act as intermediary in this case and use the escrowed funds to acquire suitable skink habitat and subsequently convey fee-title of acquired habitat to ABS. A conservation easement of the acquired lands would also be developed between TNC and ABS.

As stated above, the Service has made a preliminary determination that the issuance of the ITP is not a major Federal action significantly effecting the quality of the human environment within the meaning of Section 102(2)(C) of NEPA. This preliminary determination may be revised due to public comment received in response to this notice and is based on information contained in the draft EA and HCP.

The Service will also evaluate whether the issuance of a Section 10(a)(1)(B) ITP complies with Section 7 of the Act by conducting an intra-Service Section 7 consultation. The results of the biological opinion, in combination with the above findings, will be used in the final analysis to determine whether or not to issue the ITP.

Dated: June 12, 2000.
Sam D. Hamilton,
Regional Director.

[FR Doc. 00-15369 Filed 6-16-00; 8:45 am]

BILLING CODE 4310-55-P